DEPARTMENT OF DEFENSE

Defense Acquisition Regulations System

48 CFR Parts 203 and 252

[Docket DARS-2022-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) in order to make needed editorial changes.

DATES: Effective September 29, 2022.

FOR FURTHER INFORMATION CONTACT: Ms. Jennifer D. Johnson, Defense Acquisition Regulations System, telephone 703-717-8226.

SUPPLEMENTARY INFORMATION: This final rule amends the DFARS to make needed editorial changes to 48 CFR parts 203 and 252.

List of Subjects in 48 CFR Parts 203 and 252

Government procurement.

Jennifer D. Johnson,
Editor/Publisher, Defense Acquisition Regulations System.

Therefore, 48 CFR parts 203 and 252 are amended as follows:

PART 203—IMPROPER BUSINESS PRACTICES AND PERSONAL CONFLICTS OF INTEREST

1. The authority citation for 48 CFR part 203 is revised to read as follows:

Authority: 41 U.S.C. 1303 and 48 CFR chapter 1.

203.171-1 [Amended]

2. Amend section 203.171-1 by removing “Section” and “Public Law” and adding “section” and “Pub. L.” in their places, respectively.

203.171-3 [Amended]

3. Amend section 203.171-3 in paragraph (a) by removing “Section” and adding “section” in its place.

PART 252—SOLICITATION PROVISIONS AND CONTRCT CLAUSES

4. The authority citation for 48 CFR part 252 continues to read as follows:

Authority: 41 U.S.C. 1303 and 48 CFR chapter 1.

5. Amend section 252.239-7010 by:

a. Revising the section heading and the clause date; and

b. Removing fromm paragraph (b)(2) “http://iase.disa.mil/cloud_security/Pages/index.aspx unless notified by the Contracting Officer that this requirement has been waived by the DoD Chief Information Officer.” and adding “https://public.cyber.mil/dccs/dccs-documents/ unless notified by the Contracting Officer that this requirement has been waived by the DoD Chief Information Officer.” in its place.

The revisions read as follows:

252.239-7010 Cloud Computing Services.

* * * * *

Cloud Computing Services (Sep 2022)

* * * * *

[FR Doc. 2022-20966 Filed 9-28-22; 8:45 am]

BILLING CODE 5001-06-P